DEPARTMENT OF THE INTERIOR

National Park Service

National Register of Historic Places; Notification of Pending Nominations

Nominations for the following properties being considered for listing in the National Register were received by the National Park Service before March 10, 2001. Pursuant to section 60.13 of 36 CFR Part 60 written comments concerning the significance of these properties under the National Register criteria for evaluation may be forwarded to the National Register, National Park Service, 1849 C St., NW, NC400, Washington, DC 20240. Written comments should be submitted by April 6, 2001.

Carol D. Shull,
Keeper of the National Register Of Historic Places.

ARKANSAS

Union County

Masonic Temple, 106-108 N. Washington, El Dorado, 01000349

COLORADO

Larimer County

Loveland State Amory, 201 S. Lincoln Ave., Loveland, 01000350

New London County

Kinne Cemetery, Jarvis Rd., Griswold, 01000351

CONNECTICUT

Litchfield County

Watertown Center Historic District, Roughly along Deforest, Main, Wood Ruff, Woodbury, North and Warren Sts., Watertown, 01000352

New Haven County

Hamden Memorial Town Hall, 2372 Whitney Ave., Hamden, 01000355

Sheffield Street Bridge, Sheffield St. over Hancock Brook, Waterbury, 01000353

Washington Avenue Bridge, Washington Ave. over Mad River, Waterbury, 01000354

Tolland County

Bolton Green Historic District, Roughly the Green, 219,220,222,228,233,266 Bolton Center Rd. and 3 Hebron Rd., Bolton, 01000357

INDIANA

Floyd County

Pike Inn, Old, 941 State St., New Albany, 01000358

Huntington County

Young—Yentes—Mattern Farm, Jct. of 900 W. Rd. and 400 N. Rd., Huntington, 01000361

Monroe County

Legg House, 324 S. Henderson, Bloomington, 01000359

St. Joseph County

Wertz—Bestle Farm, 51387 Portage Rd., South Bend, 01000356

Steuben County

Fox Lake, 60-760 Lane 130, Angola, 01000360

KANSAS

Harvey County

Hoag, E.H., House, 303 W. Broadway, Newton, 01000362

KENTUCKY

Campbell County

Newport and Cincinnati Bridge, Over Ohio River, Newport, 01000363

LOUISIANA

Caddo Parish

Highland Historic District, Roughly bounded by Stoner, Centenary, Kings Hwy, and Line Ave., Shreveport, 01000365

Vernon Parish

Downtown Leesville Historic District, Third St. bet. roughly Lula and Lee Sts., Leesville, 01000366

MAINE

Androscoggin County

Androscoggin Mill Block, 269-271 Park St., Lewiston, 01000367

Cumberland County

Scribner Homestead, 244 Scribner's Mill Rd., Bolsters Mills, 01000368

Kennebec County

Riverview House, Rte. 201, 0.15 SE of jct. with Old Federal Rd., Vassalboro, 01000369

Washington County

Calais Free Library, (Maine Public Libraries MPS) Union St., 0.05 mi. NW of jct. with US 1, Calais, 01000370

York County

Alfred Shaker Historic District, Both sides of Shaker Hill Rd., Alfred, 01000371

MARYLAND

Anne Arundel County

Mt. Tabor Methodist Episcopal Church, 1421 St. Stephens Rd., Crownsville, 01000373

Parkhurst, 1059 Cumberstone Rd., Harwood, 01000372

NORTH CAROLINA

Forsyth County

Bahnson, Agnew Hunter, House, Jct. of W. Fifth and Spring Sts., Winston-Salem, 01000375

Wachovia Building, 301 N. Main St., Winston-Salem, 01000376

Guilford County

World War Memorial Stadium, 510 Yanceyville St., Greensboro, 01000377

Mecklenburg County

Carolina School Supply Company Building (Former), 1023 W. Morehead St., Charlotte, 01000374

OHIO

Franklin County

Jeffrey Manufacturing Company Office Building, 224 E. First Ave., 883 and 895 N. Sixth St., Columbus, 01000379

St. Clair Hospital, 338-344 and 346 St. Clair Ave., Columbus, 01000378

Hamilton County

Newport and Cincinnati Bridge, Spans Ohio River, Cincinnati, 01000364

TENNESSEE

Bradley County

Hardwick Woolen Mills, 445 Church St., SE, Cleveland, 01000380

Hamilton County

Bachman, Nathan L. School, 281 Anderson Pike, Walden, 01000381

Washington County

St. Paul AME Zion Church, 201 Welbourne St., Johnson City, 01000382

[FR Doc. 01-7097 Filed 3-21-01; 8:45 am]

BILLING CODE 4310-70-P